DEPARTMENT OF THE TREASURY

Fiscal Service

Guidance on Cashing and Accepting for Deposit Federal Emergency Management Agency (FEMA) Disaster Assistance Checks and Government Benefit Checks Issued by the U.S. Treasury; Hurricane Katrina

Correction

In notice document 05-18968 appearing on page 55224 in the issue of Tuesday, September 20, 2005, make the following correction:

In the third column, in the fifth line from the top, “prudent to” should read “prudent efforts to”.

[FR Doc. C5-18968 Filed 9-30-05; 8:45 am]

BILLING CODE 1505-01-D